DEPARTMENT OF TRANSPORTATION

Federal Aviation Administration

[Policy Statement Number PS-ACE100-2002-002]

Proposed Issuance of Policy Statement, Installation Approval of Multi-Function Displays Using the Approved Model List (AML) Supplemental Type Certification (STC) Process

AGENCY: Federal Aviation Administration (FAA), DOT.

ACTION: Notice of policy statement; request for comments.

SUMMARY: This document proposes to encourage use of the Approved Model List (AML) Supplemental Type Certification (STC) Process for installation approval of multi-function displays (MFD's).

DATES: Comments sent must be received by April 22, 2002.

ADDRESSES: Send all comments on this proposed policy statement to the individual identified under FOR FURTHER INFORMATION CONTACT.

FOR FURTHER INFORMATION CONTACT: Barry Ballenger, Aerospace Engineer, FAA, Small Airplane Directorate, Standards Office, ACE-110, 901 Locust, Room 301, Kansas City, Missouri 64106; telephone: (816) 329-4152; facsimile: (816) 329-4149; e-mail: <barry.ballenger@faa.gov>.

SUPPLEMENTARY INFORMATION:

Comments Invited

How do I comment on the proposed policy?

We invite your comments on this proposed policy statement PS-ACE100-2002-002. You may send whatever written data, views, or arguments you choose. We will consider all comments received by the closing date. We may change proposed policy statement because of the comments received.

Please send comments to the individual identified under FOR FURTHER INFORMATION CONTACT. Comments sent using the Internet must contain “Comments to Policy Statement Number PS-ACE100-2002-002” in the subject line. Commenters should format in Microsoft Word 97 or ASCII any file attachments that are sent using the Internet.

Send comments using the following format:

—Organize comments issue-by-issue. For example, discuss a comment about the analysis and a comment about speed limits as two separate issues.

—For each issue, state what specific change you are requesting to the proposed policy memorandum.

—Include justification (for example, reasons or data) for each request.

If sending your comments using the Internet will cause you extreme hardship, you may send comments using the U.S. Mail, overnight delivery, or facsimile machine. You should mark your comments, “Comments to Policy Statement PS-ACE100-2002-002” and send two copies to the above address in the section FOR FURTHER INFORMATION CONTACT.

What would be the general effect of this proposed policy?

The FAA is presenting this information as a set of guidelines suitable for use. However, we do not intend for this proposed policy to become a binding norm; it does not form a new regulation, and the FAA would not apply or rely on it as a regulation.

The FAA Aircraft Certification Offices (ACO's) and Flight Standards District Offices (FSDO's) that certify changes in type design and approve alterations in normal, utility, and acrobatic category airplanes should try to follow this policy when appropriate. In addition, as with all advisory material, this statement of policy identifies one means, but not the only means, of compliance.

Because this proposed general statement of policy only announces what the FAA seeks to establish as policy to encourage use, the FAA considers it an issue for which public comment is appropriate. Therefore, the FAA requests comments on the following proposed general statement of policy relevant to use of the AML STC process for installation approval of MFD's.

Discussion

You may download a copy from the FAA web site at <http://www.faa.gov/certification/aircraft/small _airplane_ directorate_news_proposed.html>, or request a copy by contacting the person named above under FOR FURTHER INFORMATION CONTACT.

This proposed policy statement does not introduce new policy or regulation but provides a compilation of existing regulation, guidance and procedures in the application of the AML STC process for certification projects. This policy focuses on the use of the AML STC for installation of MFD's in Civil Air Regulations (CAR) 3 or of the Federal Aviation Regulations (14 CFR) part 23 airplanes or sailplanes, balloons, or airships operating under part 91, and/or part 135 rules. The AML STC process may be used whenever the ACO and applicant agree that it is appropriate. The AML STC process may also be effective for a certification project of an aircraft under another certification basis. The applicant should coordinate with the appropriate ACO for final determination.

Issued in Kansas City, Missouri, on February 11, 2002.
Michael Gallagher,
Manager, Small Airplane Directorate, Aircraft Certification Service.

[FR Doc. 02-4197 Filed 2-20-02; 8:45 am]

BILLING CODE 4910-13-P